ENVIRONMENTAL PROTECTION AGENCY

[EPA-HQ-OGC-2007-0982; FRL-8726-1]

Agency Information Collection Activities; Proposed Collection; Comment Request; Environmental and Economic Effects of Environmental Conflict Resolution at EPA; EPA ICR No. 2306.01, OMB Control No. 2090-NEW

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before December 8, 2008.

ADDRESSES: Submit your comments, identified by Docket ID No. EPA-HQ-OGC-2007-0982 by one of the following methods:

• http://www.regulations.gov: Follow the on-line instructions for submitting comments.

• E-mail: oei.docket@epa.gov.

• Fax: (202) 566-9744.

• Mail: EPA Docket Center (EPA/DC), Environmental Protection Agency, Mailcode: 2822T, 1200 Pennsylvania Ave., NW., Washington, DC 20460.

• Hand Delivery: EPA Docket Center, Environmental Protection Agency, Room 3334, 1301 Constitution Ave., NW., Washington, DC. Such deliveries are only accepted during the Docket's normal hours of operation, and special arrangements should be made for deliveries of boxed information.

Instructions: Direct your comments to Docket ID No. EPA-HQ-OGC-2007-0982. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: William Hall, 2388A, Environmental Protection Agency, 1200 Pennsylvania Ave., NW., Washington, DC 20460; telephone number: (202) 564-0214; fax number: (202) 501-1715; e-mail address: hall.william@epa.gov.

SUPPLEMENTARY INFORMATION:

How Can I Access the Docket and/or Submit Comments?

EPA has established a public docket for this ICR under Docket ID No. EPA-HQ-OGC-2007-0982, which is available for online viewing at http://www.regulations.gov, or in person viewing at the EPA Docket Center (EPA/DC), EPA West, Room 3334, 1301 Constitution Ave., NW., Washington, DC. The EPA/DC Public Reading Room is open from 8:30 a.m. to 4:30 p.m., Monday through Friday, excluding legal holidays. The telephone number for the Reading Room and Docket is 202-566-1744.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider when I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are individuals who negotiated agreements reached in environmental conflict resolution (ECR) cases sponsored by or involving EPA. ECR is third-party assisted conflict resolution and collaborative problem solving in the context of environmental, public lands, or natural resources issues or conflicts, including matters related to energy, transportation, and land use. Affected entities may also include participants in non-ECR cases (i.e., where a third party was not involved) with similar characteristics to ECR cases that are selected for comparison. Participants in both ECR and non-ECR cases typically represent a wide range of interests, including various agencies and levels of government, industry, and environmental advocacy groups.

Title: Environmental and Economic Effects of Environmental Conflict Resolution at EPA.

ICR numbers: EPA ICR No. 2306.01, OMB Control No. 2090-NEW.

ICR status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: This information collection will enable EPA's Conflict Prevention and Resolution Center to evaluate the environmental and economic effects of agreements reached through the Agency's Environmental Conflict Resolution (ECR) process compared to decisions that might have been achieved through other decision-making processes (e.g., litigation). ECR is third-party assisted conflict resolution and collaborative problem solving in the context of environmental, public lands, or natural resources issues or conflicts, including matters related to energy, transportation, and land use.

Information will be collected from representatives of organizations that participated in ECR decision-making processes sponsored by or involving EPA in a range of environmental cases. For purposes of comparison, information will also be collected from representatives of organizations that were involved in non-ECR (i.e., without the assistance of a third party) decision making processes that otherwise have similar characteristics to the ECR cases (e.g., similar environmental issues, similar geography). Case participants will complete a survey instrument with questions concerning the environmental effects, implementation of the agreement or decision including resources required, relations with other parties to the agreement, reasons for joining an ECR process or participating in a non-ECR decision making process, costs of the process, and quality of information held by parties when reaching agreement or making the decision.

This information collection will help satisfy the joint OMB and President's Council on Environmental Quality (CEQ) Memorandum on ECR (November 2005, available at http://www.whitehouse.gov/ceq/joint-statement.html) that directed agencies, among other things, to “recognize and support needed upfront investments in collaborative processes and conflict resolution and demonstrate those savings in performance and accountability measures to maintain a budget neutral environment.” Data collected will be used to analyze and assess EPA's ECR procedures, to ensure program activities are executed and managed in a cost-effective manner, and provide information for Agency managers and staff to use when deciding whether to use ECR, consistent with the principles of the Government Performance Results Act.

This information collection will be voluntary for all respondents. As required by 5 U.S.C. 524(h), the questionnaires for parties in dispute resolution proceedings covered by the Administrative Dispute Resolution Act of 1996 will be carefully designed and administered to ensure that the identity of the parties and the specific issues in controversy will remain confidential. The questionnaires for matters that did not involve dispute resolution proceedings will allow respondents to claim that their responses contain Confidential Business Information. The Agency will protect questionnaires subject to CBI claims from disclosure to the extent authorized by 2 CFR Subpart B, Confidentiality of Business Information.

Burden Statement: The annual public reporting and recordkeeping burden for this collection of information is estimated to average 0.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 300.

Frequency of response: on occasion.

Estimated total average number of responses for each respondent: 1.

Estimated total annual burden hours: 50 hours.

Estimated total annual costs: $2239.00 This includes an estimated burden cost of $2239.00 and an estimated cost of $0 for capital investment or maintenance and operational costs.

What Is the Next Step in the Process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: September 30, 2008.
Patricia K. Hirsch,
Acting General Counsel, Office of General Counsel.

[FR Doc. E8-23670 Filed 10-6-08; 8:45 am]

BILLING CODE 6560-50-P